SOCIAL SECURITY ADMINISTRATION

[Docket No. SSA 2018-0034]

Rescission of Social Security Rulings 62-47, 65-33c, 66-19c, 67-54c, 68-47c, 71-23c, 72-14c, 72-31c, 82-19c, and 86-10c

AGENCY: Social Security Administration.

ACTION: Notice of rescission of social security rulings.

SUMMARY: The Acting Commissioner of Social Security gives notice of the rescission of Social Security Rulings (SSR): SSR 62-47; SSR 65-33c; SSR 66-19c; SSR 67-54c; SSR 68-47c; SSR 71-23c; SSR 72-14c; SSR 72-31c; SSR 82-19c; SSR 86-10c.

DATES: This rescission is applicable on September 14, 2018.

FOR FURTHER INFORMATION CONTACT: Dan O'Brien, Office of Disability Policy, Social Security Administration, 6401 Security Boulevard, Baltimore, MD 21235-6401, (410) 597-1632. For information on eligibility or filing for benefits, call our national toll-free number, 1-800-772-1213 or visit our internet site, Social Security Online, at http://www.socialsecurity.gov.

SUPPLEMENTARY INFORMATION: Through SSRs, we make available to the public precedential decisions relating to the Federal old-age, survivors, disability, supplemental security income, and special veterans benefits programs. We may base SSRs on determinations or decisions made at all levels of administrative adjudication, Federal court decisions, Commissioner's decisions, opinions of the Office of the General Counsel, or other interpretations of the law and regulations.

We are rescinding the following SSRs:

SSR 62-47—Representation of Claimant by Counsel—Fees for Services;

SSR 65-33c—Section 206.—Representation of Claimant—Fee for Services—Violation;

SSR 66-19c—Sections 205(b) and (g) and 206(a).—Judicial Review—Attorney's Fee Fixed by Administration;

SSR 67-54c—Section 206.—Representation of Claimant—Fixing amount of Attorneys's [sic] Fees—Administrative and Court Proceedings;

SSR 68-47c—Section 206(a).—Representation of Claimant—Attorney's Fees—Authority to Regulate and Approve Amount;

SSR 71-23c—Section 206.—Representation of Claimant—Fair and Impartial Hearing;

SSR 72-14c—Section 206(a) (42 U.S.C. 406(a)).—Representation of Claimant—Determination of Attorney's Fees—Administrative Proceedings;

SSR 72-31c—Section 206(a) and (b) (42 U.S.C. 406(a) and (b)).—Representation of Claimant Favorable Award of Benefits to Claimant—Determination of Attorney's Fee;

SSR 82-19c—Sections 205(b), (g), and (h) and 206(a) (42 U.S.C. 405(b), (g), and (h) and 406 (a)) Judicial Review—Attorney's Fee Fixed by Administration—Constitutionality;

SSR 86-10c—Section 206(a) of the Social Security Act (42 U.S.C. 406(a)) Judicial Review—Attorney's Fee Fixed by Administration—Constitutionality.

These SSRs date from the early 1960s through the early 1980s, when the agency published them as policy interpretations binding on all components of the agency. We are rescinding these SSRs, which address due process rights to counsel; fees for representational services; and judicial review of representative fees, because the information provided therein either reflects well-established legal principles and is already reflected clearly in the Social Security Act or regulations, or has since been clarified in our regulations and subregulatory guidance. See 20 CFR 404.903(f), 404.938(b)(2) 416.1403(a)(6), 416.1438(b)(2) and 20 CFR Ch. III, Pt. 404, Subpt. R, 20 CFR and Pt. 416, Subpt. O, SSR 90-3c, POMS GN 03900, and HALLEX I-1-1, I-1-2. As such, these SSRs are redundant, outdated, or obsolete.

(Catalog of Federal Domestic Assistance Program Nos. 96.001 Social Security Disability Insurance, 96.002 Social Security Retirement Insurance, 96.004 Social Security Survivors Insurance, and 96.006 Supplemental Security Income)

Nancy A. Berryhill,
Acting Commissioner of Social Security.

[FR Doc. 2018-20050 Filed 9-13-18; 8:45 am]

BILLING CODE 4191-02-P